DEPARTMENT OF DEFENSE

Department of the Army

Performance Review Board Membership

AGENCY: Department of the Army, DoD.

ACTION: Notice.

SUMMARY: Notice is given of the names of members of a Performance Review Board for the Department of the Army.

DATES: Applicable November 5, 2024.

FOR FURTHER INFORMATION CONTACT: Barbara Smith, Civilian Senior Leader Management Office, 111 Army Pentagon, Washington, DC 20310-0111, email: Barbara.M.Smith.civ@army.mil or phone: (703) 693-1126.

SUPPLEMENTARY INFORMATION: Section 4314(c)(1) through (5) of title 5, U.S.C., requires each agency to establish, in accordance with regulations, one or more Senior Executive Service performance review boards. The boards shall review and evaluate the initial appraisal of senior executives' performance by supervisors and make recommendations to the appointing authority or rating official relative to the performance of these executives.

The Department of the Army Performance Review Board will be composed of a subset of the following individuals:

1. Mr. Steve Austin, Assistant Chief of the Army Reserve, Office of the Chief of the Army Reserve

2. Mr. Mark Averill, Administrative Assistant to the Secretary of the Army, Office of the Administrative Assistant to the Secretary of the Army

3. Mr. Young Bang, Principal Deputy Assistant Secretary of the Army (Acquisitions, Logistics and Technology), Office of the Assistant Secretary of the Army (Acquisitions, Logistics and Technology)

4. LTG Maria Barrett, Commanding General, U.S. Army Cyber Command

5. Mr. Peter Bechtel, Assistant Deputy Chief of Staff, G-3/5/7, Deputy Chief of Staff, G-3/5/7

6. BG Christine Beeler, Program Executive Officer, U.S. Army Acquisition Support Center

7. Ms. Julie Blanks, Executive Director for Manpower and Reserve Affairs, Assistant Secretary of the Army (Manpower and Reserve Affairs)

8. Ms. Pamela Blechinger, Director, U.S. Army Training and Doctrine Command Analysis Center

9. Ms. Yvette Bourcicot, Principal Deputy Assistant Secretary of the Army (Manpower and Reserve Affairs), Office of the Assistant Secretary of the Army (Manpower and Reserve Affairs)

10. Mr. John Bradsher, Director, Operations and Integration, U.S. Army Intelligence and Security Command

11. Mr. William Brinkley, Deputy Chief of Staff, G-1/4/9, U.S. Army Training and Doctrine Command

12. GEN Gary Brito, Commander General. U.S. Army Training and Doctrine Command

13. Mr. Theodore Brown, Chief, Programs Integration Division, U.S. Army Corps of Engineers

14. MG Edmond Brown, Commanding General, U.S. Army Futures Command

15. Ms. Kimberly Buehler, Director, Small Business Programs, Office of the Secretary of the Army

16. HON Douglas Bush, Assistant Secretary of the Army (Acquisitions, Logistics and Technology), Office of the Assistant Secretary of the Army (Acquisitions, Logistics and Technology)

17. Mr. Michael Cadieux, Director, CCDC Ground Vehicle Systems Center, U.S. Army Combat Capabilities Development Command, U.S. Army Futures Command

18. Ms. Holly Carey, Director of Resource Integration Deputy, Chief of Staff, G-9, Washington, DC

19. GEN Christopher Cavoli, Commanding General, U.S. European Command and Supreme Allied Commander, U.S. European Command

20. LTG Robert Collins, Military Deputy/Director, Army Acquisition Corps, Office of the Assistant Secretary of the Army (Acquisition, Logistics and Technology)

21. MG Kimberly Colloton, Deputy Chief of Engineers/Deputy Commanding General, U.S. Army Corps of Engineers

22. Ms. Diana Connolly, Director, Office of Analytics Integration

23. HON Michael Connor, Assistant Secretary of the Army (Civil Works), Office of the Assistant Secretary of the Army (Civil Works)

24. Mr. Robert Cook, Principal Deputy Assistant Secretary of the Army (Financial Management and Comptroller), Office of the Assistant Secretary of the Army (Financial Management and Comptroller)

25. Mr. David Cooper, Chief Counsel, U.S. Army Corps of Engineers, Washington, DC

26. Ms. Denise Council-Ross, Principal Deputy General Counsel

27. LTG Jody Daniels, Chief of Army Reserve

28. Mr. Richard De Fatta, Deputy to the Commander, U.S. Army Space and Missile Defense Command/Army Forces Strategic Command

29. Mr. Mario Diaz, Deputy Under Secretary of the Army (Chair), Office of the Deputy Under Secretary of the Army

30. Ms. Karen Durham-Aguilera, Executive Director, U.S. Army National Cemeteries

31. LTG Brian Eifler, Deputy Chief of Staff, G-1, Office of the Deputy Chief of Staff, G-1

32. Mr. Paul Farnan, Principal Deputy Assist Secretary of the Army (Installations, Energy and Environment), Office of the Assistant Secretary of the Army (Installations, Energy and Environment)

33. Dr. Elizabeth Fleming, Deputy Director, Engineer Research and Development Center, U.S. Army Corps of Engineers

34. Mr. Todd Fore, Deputy Assistant Secretary of the Army, Civilian Personnel Office of the Assistant Secretary of the Army, Manpower and Reserve Affairs

35. Mr. Gregory Ford, Director, Criminal Investigation Division, HQ, U.S. Army Criminal Investigations Command

36. Mr. Michael Formica, Executive Deputy to the Commander, U.S. Army Training and Doctrine Command

37. LTG David Francis, Deputy, Commanding General/Chief of Staff, U.S. Army Training and Doctrine Command

38. Dr. Karl Friedl, Senior Research Scientist (Performance Physiology), U.S. Army Forces Command

39. LTG Karl Gingrich, Deputy Chief of Staff, G-8, Office of the Deputy Chief of Staff, G-8

40. LTG William H. Graham, Chief of Engineers/Commanding General, U.S. Army Corps of Engineers

41. LTG Anthony R. Hale, Deputy Chief of Staff, G-2, U.S. Army Deputy Chief of Staff, G-2

42. LTG Robert Harter, Chief of the Army Reserves and Commanding General of the U.S. Army Reserve Command

43. LTG Heidi Hoyle, Deputy Chief of Staff, G-4, U.S. Army Deputy Chief of Staff, G-4

44. HON Rachel Jacobson, Assistant Secretary of the Army (Installations, Energy and Environment), Office of the Assistant Secretary of the Army (Installations, Energy and Environment)

45. Ms. Laura Jankovich, Director of Management/Vice Director of the Army Staff, Office of the Director of the Army Staff, Office of the Chief of Staff of the Army

46. Mr. Jeffrey Jones, Deputy to the Commanding General, U.S. Army Cyber Command

47. Mr. David Kim, Director of Support, U.S. Force Modernization, U.S. Army Intelligence and Security Command

48. Mr. James Kirsch, Director, Aviation and Missile Center, U.S. Army Combat Capabilities Development Command

49. Mr. Daniel Klippstein, Assistant Deputy Chief of Staff, G-9, Office of the Deputy Chief of Staff, G-9

50. Mr. Michael Lacey, Deputy General Counsel (Operations and Personnel), Office of the General Counsel

51. Mr. Norman Lawrence, Deputy to the Commanding General, USAICoE & FH, U.S. Army Futures Command

52. Mr. Mark Lewis, Deputy to the Assistant Secretary of the Army (Manpower and Reserve Affairs), Office of the Assistant Secretary of the Army (Manpower and Reserve Affairs)

53. Mr. David Markowitz, Chief Data Officer and Analytics Officer, Office of the Chief Information Officer

54. LTG Donna W. Martin, The Inspector General, U.S. Department of the Army

55. LTG Patrick E. Matlock, Deputy Chief of Staff, G-3/5/7, Office of the Deputy Chief of Staff, G-3/5/7

56. Mr. David May, Senior Cyber Intelligence Advisor, Cyber Center of Excellence, U.S. Army Training and Doctrine Command

57. Ms. Elizabeth Millard-Harkema, Director, Resources Integration, Deputy Chief of Staff, G-2

58. Mr. Bruce B Miller, The Auditor General, U.S. Army Audit Agency

59. Ms. Hong Miller, Chief Human Capital Officer, U.S. Army Futures Command

60. Ms. Liz Miranda, Executive Deputy to the Commanding General, U.S. Army Materiel Command

61. Mr. Lawrence Mixon, Special Assistant to the Program Executive Officer (Intelligence, Electronic Warfare and Sensors), Office of the Program Executive Officer

62. LTG John Morrison, Deputy Chief of Staff, G-6, Office of the Deputy Chief of Staff, G-8

63. Mr. Donald Nitti, Deputy to the Commander, U.S. Army Aviation and Missile Command, U.S. Army Materiel Command

64. Mr. Levator Norsworthy, Jr., Deputy General Counsel (Acquisition)/Senior Deputy General Counsel, Office of the General Counsel

65. Ms. Kristina O'Brien, Deputy to the Commanding General, Military Surface Deployment and Distribution Command, U.S. Army Materiel Command

66. Ms. Karen Pane, Director of Human Resources, U.S. Army Corps of Engineers

67. Dr. Anne Petrock, Senior Research Scientist (Warheads Technology), U.S. Army Combat Capabilities Development Command, U.S. Army Futures Command

68. Mr. Jamie Pinkham, Principal Deputy Assistant Secretary of the Army (Civil Works), Office of the Assistant Secretary of the Army (Civil Works)

69. Dr. David Pittman, Director, Research and Development/Director, Engineering Research and Development Center, U.S. Army Corps of Engineers

70. GEN Andrew Poppas, Commanding General, U.S. Army Forces Command

71. LTG Laura Potter, Director of the Army Staff

72. Ms. Diane Randon, Assistant Deputy Chief of Staff, G-2, Office of the Deputy Chief of Staff, G-2

73. Dr. Peter Reynolds, Senior Research Scientist (Physical Sciences), U.S. Army Combat Capabilities Development Command, U.S. Army Futures Command

74. HON Carrie F Ricci, General Counsel, Office of the General Counsel

75. Mr. J. Randall Robinson, Executive Deputy to the Commanding General, U.S. Army Installations Management Command

76. Dr. Robert Sadowski, Senior Research Scientist (Robotics), U.S. Army Combat Capabilities Development Command, U.S. Army Futures Command

77. Mr. Matthew Sannito, Assistant Deputy Chief of Staff, Logistics, Office of the Deputy Chief of Staff, G-4

78. Mr. Thomas Sasala, Deputy Director, Office of Business Transformation

79. HON Agnes Schaefer, Assistant Secretary of the Army, Manpower and Reserve Affairs, Office of the Assistant Secretary of the Army, (Manpower and Reserve Affairs)

80. Mr. Scott Schoenfeld, Senior Research Scientist (Terminal Ballistics), Army Futures Command

81. Mr. Bryan Shone, Assistant Deputy Chief of Staff, G-8, Office of the Deputy Chief of Staff, G-8

82. LTG Stephen G. Smith, Deputy Commanding General/Chief of Staff, U.S. Army Forces Command

83. Ms. Sydney Smith, Director for Supply Policy, Office of the Deputy Chief of Staff, G-4

84. HON Caral Spangler, Assistant Secretary of the Army (Financial Management and Comptroller), Office of the Assistant Secretary of the Army, (Financial Management and Comptroller)

85. Mr. Robert Steinrauf, Director, Plans and Resources Directorate, Deputy Chief of Staff, G-1

86. LTG Douglas Stitt, Deputy Chief of Staff, G-1, Office of the Deputy Chief of Staff, G-1

87. Mr. Robin Swan, Director, Office of Business Transformation

88. Mr. Douglas Tamilio, Director, CCDC Soldier Center, U.S. Army Combat Capabilities Development Command, U.S. Army Futures Command

89. Ms. Kristen Taylor, Deputy Assistant Secretary of the Army (Plans, Programs and Resources), Office of the Assistant Secretary of the Army, (Financial Management and Comptroller)

90. Mr. Brian Toland, Command Counsel, Headquarters, U.S. Army Materiel Command

91. LTG Kevin Vereen, Deputy Chief of Staff, G-9, Office of the Deputy Chief of Staff, G-9

92. Mr. Roy Wallace, Assistant Deputy Chief of Staff, G-1, Office of the Deputy Chief of Staff, G-1

93. Mr. Ty Wamsley, Director Coastal and Hydraulics Laboratory, U.S. Army Engineer Research and Development Center

94. Mr. Joseph Welch, Executive Deputy to the Commanding General, U.S. Army Futures Command

95. Ms. Kathryn Yurkanin, Principal Deputy Chief of Legislative Liaison, Office of the Chief, Legislative Liaison

96. Ms. Michelle Zbylut, Deputy Assistant Secretary of the Army, Equity and Inclusion, Assistant Secretary of the army (Manpower and Reserve Affairs)

James W. Satterwhite Jr.,
Army Federal Register Liaison Officer.

[FR Doc. 2024-27459 Filed 11-21-24; 8:45 am]

BILLING CODE 3710-08-P